DEPARTMENT OF TRANSPORTATION

Federal Aviation Administration

14 CFR Part 39

[Docket No. FAA-2015-2963; Directorate Identifier 2015-NM-016-AD; Amendment 39-18434; AD 2016-06-03]

RIN 2120-AA64

Airworthiness Directives; Airbus Airplanes

AGENCY: Federal Aviation Administration (FAA), Department of Transportation (DOT).

ACTION: Final rule.

SUMMARY: We are adopting a new airworthiness directive (AD) for all Airbus Model A319-131, -132, and -133 airplanes; Model A320-232 and -233 airplanes; and Model A321-131, -231, and -232 airplanes. This AD was prompted by reports of forward engine mount attachment pins that were manufactured from discrepant raw material. This AD requires identification and replacement of affected forward engine mount attachment pins. We are issuing this AD to prevent failure of a forward engine mount attachment pin, possible loss of an engine in-flight, and consequent reduced controllability of the airplane.

DATES: This AD becomes effective April 22, 2016.

The Director of the Federal Register approved the incorporation by reference of certain publications listed in this AD as of April 22, 2016.

ADDRESSES: For Airbus service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com.

For Goodrich Aerostructures service information identified in this final rule, contact UTC Aerospace Systems, ATTN: Christopher Newth—V2500 A1/A5 Project Engineer, Aftermarket—Aerostructures; 850 Lagoon Drive, Chula Vista, CA; telephone 619-498-7505; email christopher.newth@utas.utc.com.

You may view this referenced service information at the FAA, Transport Airplane Directorate, 1601 Lind Avenue SW., Renton, WA. For information on the availability of this material at the FAA, call 425-227-1221. It is also available on the Internet at http://www.regulations.gov by searching for and locating Docket No. FAA-2015-2963.

Examining the AD Docket

You may examine the AD docket on the Internet at http://www.regulations.gov by searching for and locating Docket No. FAA-2015-2963; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 by adding an AD that would apply to all Airbus Model A319-131, -132, and -133 airplanes; Model A320-232 and -233 airplanes; and Model A321-131, -231, and -232 airplanes. The NPRM published in the Federal Register on July 30, 2015 (80 FR 45462) (“the NPRM”).

The European Aviation Safety Agency (EASA), which is the Technical Agent for the Member States of the European Union, has issued EASA Airworthiness Directive 2015-0004, dated January 13, 2015 (referred to after this as the Mandatory Continuing Airworthiness Information, or “the MCAI”), to correct an unsafe condition for all Airbus Model A319-131, -132, and -133 airplanes; Model A320-232 and -233 airplanes; and Model A321-131, -231, and -232 airplanes. The MCAI states:

A number of forward engine mount pins, Part Number (P/N) 740-2022-501, intended for IAE V2500 series engines, have been reported as non-compliant with the current certification requirements, due to a quality issue during manufacturing of the raw material. It was also determined that a batch of 88 affected pins are installed on in-service aeroplanes fitted with forward engine mount P/N 745-2010-503 and the serial numbers (s/n) of the affected pins and the [manufacturer serial number] MSN of the related aeroplanes have been identified.

This condition, if not corrected, could lead to forward engine mount pin failure, possibly resulting in in-flight loss of an engine and consequent reduced control of the aeroplane.

For the reasons described above, this [EASA] AD requires identification of the affected forward engine mount pins and removal from service [replacement] of those pins.

You may examine the MCAI in the AD docket on the Internet at http://www.regulations.gov by searching for and locating Docket No. FAA-2015-2963.

Comments

We gave the public the opportunity to participate in developing this AD. The following presents the comments received on the NPRM and the FAA's response to each comment.

Request To Clarify Which Attachment Pin Part Numbers May Be Installed

United Airlines (UAL) requested that paragraph (h) of the proposed AD be re-written to clarify which attachment pin part numbers can be used as replacement parts.

We partially agree with the commenter's request. We agree to provide clarification but we do not agree to revise paragraph (h) of this AD. Paragraph (h) of this AD states to replace with a serviceable part having a part number other than part number(P/N) 740-2022-501, and having a serial number that is not identified in figure 1 to paragraphs (h) and (j) of this AD. In other words, the replacement part cannot have a combination of P/N 740-2022-501 and any serial number that is included in figure 1 to paragraphs (h) and (j) of this AD. We have not changed this AD in this regard.

Request To Clarify Which Airplanes Are Not Affected by the Requirements Proposed in the NPRM

JetBlue requested clarification of the intent of paragraph (i) of the proposed AD. JetBlue asserted that the way this paragraph is written it contradicts the requirements in EASA AD 2015-0004, dated January 13, 2015, and the intent of the inspection in paragraph (h) of the proposed AD.

We agree with the commenter's request to clarify the intent of paragraph (i) of this AD. Airplanes with manufacturer serial numbers not identified in figure 2 to paragraph (i) of this AD that have not had an engine replaced after March 1, 2011, are not required to do the actions mandated by paragraphs (g) and (h) of this AD, which corresponds to paragraph (2) of the MCAI AD. In paragraph (i) of the proposed AD we inadvertently specified “airplanes with manufacturer serial numbers identified in figure 2 to paragraph (i) of this AD.” We have changed paragraph (i) of this AD to specify “airplanes with manufacturer serial numbers not identified in figure 2 to paragraph (i) of this AD.”

Request To Extend the Compliance Time

UAL requested that the compliance times in paragraph (g) of the proposed AD be extended. UAL stated that this would keep costs down and “make engine removal the most likely time the inspection would occur.” UAL also asserted that the safety concern is overstated based on information in the Goodrich Aerostructures service information. The “Background” paragraph of the Goodrich Aerostructures service information states that “a minor metallurgical discontinuity” was found on some forward engine mount crossbeam to main beam attach pins (P/N 740-2022-501). UAL stated that a minor metallurgical issue should not drive a significant safety concern.

We do not agree with the commenter's request to extend the compliance time. Even a “minor metallurgical discontinuity” can result in a safety concern. Forward engine mount attachment pins that were manufactured from discrepant raw material can lead to the failure of a forward engine mount attachment pin; this condition could result in possible loss of an engine in-flight and consequent reduced controllability of the airplane.

After considering all of the available information, we have determined that the compliance time, as proposed, represents an appropriate interval of time in which the required actions can be performed in a timely manner with the affected fleet, while still maintaining an adequate level of safety. In developing an appropriate compliance time, we considered the safety implications, parts availability, and normal maintenance schedules for timely accomplishment of the replacement. However, under the provisions of paragraph (m)(1) of this AD, we may approve requests for adjustments to the compliance time if data are submitted to substantiate that such an adjustment would provide an acceptable level of safety. We have not changed this AD in this regard.

Request To Revise the Estimated Costs of Compliance

UAL requested that the estimated costs of compliance in the NPRM be increased from $156,740 to $313,480. UAL also requested that the costs for opening and closing the reversers be mentioned as costs that cannot be calculated. Furthermore, UAL stated that based on the proposed compliance times in paragraph (g) of the proposed AD and the size of the UAL fleet, the proposed requirements would have to be scheduled independently from its maintenance schedule.

We agree with the commenter's request to increase the estimated costs for compliance with the requirements of this AD. We note that these are only estimated costs and may vary based on an airplane's configuration. We also acknowledge that the costs for opening and closing the reversers are not known and are not included in the “Costs of Compliance” paragraph of this AD. However, as specified in the service information, the inspection takes approximately 4 work-hours, with an estimated cost of $313,480 for U.S. operators. We have changed the “Costs of Compliance” paragraph of this AD accordingly.

Request To Refer to Current Service Information

JetBlue Airways (JetBlue) requested that the NPRM be revised to refer to Airbus Service Bulletin A320-71-1064, Revision 01, dated April 1, 2015; and Goodrich Aerostructures Service Bulletin V2500-NAC-71-0323, Revision 01, dated January 28, 2015. JetBlue noted that the service information for both Airbus and Goodrich Aerostructures had been revised since the NPRM was published.

We agree with the commenter's request and have revised the “Related Service Information under 1 CFR part 51” section and paragraphs (g) and (h) of this AD to refer to Airbus Service Bulletin A320-71-1064, Revision 01, dated April 1, 2015; and Goodrich Aerostructures Service Bulletin V2500-NAC-71-0323, Revision 01, dated January 28, 2015. We have also added new paragraph (l) to this AD to give credit for actions done using Airbus Service Bulletin A320-71-1064, dated November 5, 2014; and Goodrich Aerostructures Service Bulletin V2500-NAC-71-0323, dated September 18, 2014. We redesignated subsequent paragraphs accordingly.

Request To Allow Use of Airbus or Goodrich Aerostructures Service Information To Accomplish Required Actions

JetBlue requested that paragraph (g) of the proposed AD be revised to allow operators to use either the Airbus service information or the Goodrich Aerostructures service information to do the actions required by that paragraph. JetBlue stated that if the engine is being inspected at the shop, the actions in the Airbus service information would not be accomplished because the Airbus service information addresses inspections of the wing. JetBlue also stated this revision would correspond with the requirements in corresponding EASA AD 2015-0004, dated January 13, 2015.

We do not agree with the commenter's request to allow operators to have the option of doing the actions required by paragraph (g) of this AD in accordance with either the Accomplishment Instructions of the Airbus service information or the Goodrich Aerostructures service information. The Airbus service information includes steps that are considered “required for compliance” (RC) and those steps are not included in the Goodrich Aerostructures service information. In addition, Goodrich Aerostructures Service Bulletin V2500-NAC-71-0323, Revision 01, dated January 28, 2015, does not distinguish between “RC” and non-“RC” steps and refers to the Airbus service bulletin for incorporation of several steps. Therefore, regardless of whether the AD requirements are accomplished “on wing” or “in shop,” operators must use a combination of Airbus and Goodrich Aerostructures service information for accomplishing the AD requirements. We have not changed this AD regarding this issue.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under1 CFR Part 51

Airbus has issued Service Bulletin A320-71-1064, Revision 01, dated April 1, 2015; and Goodrich Aerostructures has issued Service Bulletin V2500-NAC-71-0323, Revision 01, dated January 28, 2015. The service information describes procedures for an inspection to determine the serial number of the attachment pins for the forward engine mount crossbeam to main beam for each engine, and replacement of affected pins. This service information is reasonably available because the interested parties have access to it through their normal course of business or by the means identified in the ADDRESSES section.

Costs of Compliance

We estimate that this AD affects 922 airplanes of U.S. registry.

We also estimate that it will take about 4 work-hours per product to comply with the basic requirements of this AD. The average labor rate is $85 per work-hour. Required parts will cost about $0 per product. Based on these figures, we estimate the cost of this AD on U.S. operators to be $313,480, or $340 per product.

In addition, we estimate that any necessary follow-on actions will take about 4 work-hours and require parts costing $1,724, for a cost of $2,064 per attachment pin replacement. We have no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-06-03 Airbus: Amendment 39-18434. Docket No. FAA-2015-2963; Directorate Identifier 2015-NM-016-AD.

(a) Effective Date

This AD becomes effective April 22, 2016.

(b) Affected ADs

None.

(c) Applicability

This AD applies to the Airbus airplanes, certificated in any category, identified in paragraphs (c)(1), (c)(2), and (c)(3) of this AD, all manufacturer serial numbers.

(1) Model A319-131, -132, and -133 airplanes.

(2) Model A320-232 and -233 airplanes.

(3) Model A321-131, -231, and -232 airplanes.

(d) Subject

Air Transport Association (ATA) of America Code 71, Power Plant.

(e) Reason

This AD was prompted by reports of forward engine mount attachment pins that were manufactured from discrepant raw material. We are issuing this AD to prevent failure of a forward engine mount attachment pin, possible loss of an engine in-flight, and consequent reduced controllability of the airplane.

(f) Compliance

Comply with this AD within the compliance times specified, unless already done.

(g) Identification of Part Numbers for Forward Engine Mount and Attachment Pins

Except as provided by paragraph (i) of this AD, at the earliest of the times specified in paragraphs (g)(1) through (g)(4) of this AD: For each engine, identify the part number of the forward engine mount, and the part number and serial number of the attachment pin for that forward engine mount, in accordance with the Accomplishment Instructions of Airbus Service Bulletin A320-71-1064, Revision 01, dated April 1, 2015; and Goodrich Aerostructures Service Bulletin V2500-NAC-71-0323, Revision 01, dated January 28, 2015. A review of airplane maintenance records is acceptable in lieu of this identification if the part number of the forward engine mount, and the part number and serial number of the attachment pin for that forward engine mount, can be conclusively determined from that review. If any part number of the forward engine mount, or part number or serial number of the attachment pins for the forward engine mount, cannot be identified: At the earliest of the times specified in paragraphs (g)(1) through (g)(4) of this AD, contact the Manager, International Branch, ANM-116, Transport Airplane Directorate, FAA; or the European Aviation Safety Agency (EASA); or Airbus's EASA Design Organization Approval (DOA), for identification information.

(1) Within 24 months after the effective date of this AD.

(2) At the next engine removal after the effective date of this AD.

(3) Within 7,500 flight hours after the effective date of this AD.

(4) Within 5,000 flight cycles after the effective date of this AD.

(h) Corrective Actions

If, during any identification required by paragraph (g) of this AD, a forward engine mount having part number (P/N) 745-2010-503 is found, and the attachment pin has P/N 740-2022-501 with any serial number that is included in figure 1 to paragraphs (h) and (j) of this AD: At the earliest of the times specified in paragraphs (g)(1) through (g)(4) of this AD, replace the affected attachment pin with a serviceable part having a part number other than P/N 740-2022-501, and having a serial number that is not identified in figure 1 to paragraphs (h) and (j) of this AD, in accordance with the Accomplishment Instructions of Airbus Service Bulletin A320-71-1064, Revision 01, dated April 1, 2015; and Goodrich Aerostructures Service Bulletin V2500-NAC-71-0323, Revision 01, dated January 28, 2015.

Figure 1 to Paragraphs (h) and (j) of This AD—Part Numbers and Serial Numbers of Affected Forward Engine Mounts and Attachment Pins
Serial Numbers: Attachment Pin (P/N 740-2022-501) | Serial Numbers: Forward Engine Mount (P/N 745-2010-503)
1396SC | 13665001
1391SC | 13655001
1412SC | 13689001
1402SC | 13669001
1409SC | 13683001
1416SC | 13697001
1418SC | 13701001
1417SC | 13699001
1414SC | 13693001
1415SC | 13695001
1420SC | 13705001
1421SC | 13707001
1422SC | 13709001
1436SC | 13737001
1438SC | 13741001
1452SC | 13769001
1456SC | 13777001
1397SC | 13667001
1432SC | 13729001
1405SC | 13675001
1411SC | 13687001
1389SC | 13651001
1392SC | 13657001
1382SC | 13637001
1384SC | 13641001
1407SC | 13679001
1408SC | 13681001
1395SC | 13663001
1406SC | 13677001
1383SC | 13639001
1404SC | 13673001
1393SC | 13659001
1413SC | 13691001
1386SC | 13645001
1388SC | 13649001
1390SC | 13653001
1410SC | 13685001
1423SC | 13711001
1424SC | 13713001
1403SC | 13671001
1419SC | 13703001
1385SC | 13643001
1387SC | 13647001
1431SC | 13727001
1433SC | 13731001
1425SC | 13715001
1428SC | 13721001
1429SC | 13723001
1430SC | 13725001
1427SC | 13719001
1434SC | 13733001
1442SC | 13749001
1394SC | 13661001
1441SC | 13747001
1426SC | 13717001
1437SC | 13739001
1439SC | 13743001
1443SC | 13751001
1448SC | 13761001
1435SC | 13735001
1440SC | 13745001
1454SC | 13773001
1455SC | 13775001
1451SC | 13767001
1453SC | 13771001
1444SC | 13753001
1450SC | 13765001
1461SC | 13787001
1469SC | 13817001
1480SC | 13839001
1481SC | 13841001
1446SC | 13757001
1449SC | 13763001
1467SC | 13813001
1445SC | 13755001
1462SC | 13789001
1464SC | 13793001
1466SC | 13811001
1470SC | 13819001
1459SC | 13783001
1463SC | 13791001
1475SC | 13829001
1458SC | 13781001
1477SC | 13833001
1474SC | 13827001
1478SC | 13835001
1479SC | 13837001
1472SC | 13823001

(i) Exception to Paragraph (g) of This AD

For airplanes with manufacturer serial numbers not identified in figure 2 to paragraph (i) of this AD: If it can be conclusively determined that an engine has not been replaced after March 1, 2011 (the date of manufacture of the first airplane with affected engine mounts), the airplane is not affected by the requirements of paragraphs (g) and (h) of this AD.

Figure 2 to Paragraph (i) of This AD—Airplane Manufacturer Serial Nos.
Airplane Manufacturer Serial Nos.
4593
4602
4620
4637
4638
4642
4643
4644
4660
4677
4690
4696
4700
4701
4703
4706
4707
4710
4716
4719
4725
4726
4731
4736
4737
4741
4746
4751
4752
4753
4754
4755
4757
4761
4762
4772
4773
4774
4775
4779
4782
4783
4784
4786
4788
4790
4791
4798
4804
4813

(j) Parts Installation Prohibition

As of the effective date of this AD, no person may install on any airplane any engine mount attachment pin having P/N 740-2022-501 with a serial number identified in figure 1 to paragraphs (h) and (j) of this AD.

(k) Special Flight Permits

Special flight permits, as described in Section 21.197 and Section 21.199 of the Federal Aviation Regulations (14 CFR 21.197 and 21.199), are not allowed.

(l) Credit for Previous Actions

This paragraph provides credit for actions required by paragraphs (g) and (h) of this AD, if those actions were performed before the effective date of this AD using the service information specified in paragraphs (l)(1) and (l)(2) of this AD.

(1) Airbus Service Bulletin A320-71-1064, dated November 5, 2014, which is not incorporated by reference in this AD.

(2) Goodrich Aerostructures Service Bulletin V2500-NAC-71-0323, dated September 18, 2014, which is not incorporated by reference in this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(n) Related Information

(1) Refer to Mandatory Continuing Airworthiness Information (MCAI) EASA Airworthiness Directive 2015-0004, dated January 13, 2015, for related information. This MCAI may be found in the AD docket on the Internet at http://www.regulations.gov by searching for and locating Docket No. FAA-2015-2963.

(2) Airbus service information identified in this AD that is not incorporated by reference is available at the addresses specified in paragraphs (o)(3) and (o)(5) of this AD.

(3) Goodrich Aerostructures service information identified in this AD that is not incorporated by reference is available at the addresses specified in paragraphs (o)(4) and (o)(5) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-71-1064, Revision 01, dated April 1, 2015.

(ii) Goodrich Aerostructures Service Bulletin V2500-NAC-71-0323, Revision 01, dated January 28, 2015.

(3) For Airbus service information identified in this AD, contact Airbus Airworthiness Office—EIAS, 1 Rond Point Maurice Bellonte, 31707 Blagnac Cedex, France; telephone +33 5 61 93 36 96; fax +33 5 61 93 44 51; email account.airworth-eas@airbus.com; Internet http://www.airbus.com.

(4) For Goodrich Aerostructures service information identified in this AD, contact UTC Aerospace Systems, ATTN: Christopher Newth—V2500 A1/A5 Project Engineer, Aftermarket—Aerostructures; 850 Lagoon Drive, Chula Vista, CA; telephone 619-498-7505; email christopher.newth@utas.utc.com.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on March 7, 2016.
Michael Kaszycki,
Acting Manager, Transport Airplane Directorate, Aircraft Certification Service.

[FR Doc. 2016-05700 Filed 3-17-16; 8:45 am]

BILLING CODE 4910-13-P